DEPARTMENT OF THE INTERIOR

National Park Service

Notice of Inventory Completion: Anthropological Studies Center, Archaeological Collections Facility, Sonoma State University, Rohnert Park, CA

AGENCY: National Park Service, Interior.

ACTION: Notice.

Notice is here given in accordance with the Native American Graves Protection and Repatriation Act (NAGPRA), 25 U.S.C. 3003, of the completion of an inventory of human remains in the possession of the Anthropological Studies Center, Archaeological Collections Facility, Sonoma State University, Rohnert Park, CA. The human remains were removed from Mendocino County, CA.

This notice is published as part of the National Park Service's administrative responsibilities under NAGPRA, 25 U.S.C. 3003(d)(3). The determinations in this notice are the sole responsibility of the museum, institution, or Federal agency that has control of the Native American human remains. The National Park Service is not responsible for the determinations in this notice.

A detailed assessment of the human remains was made by the Anthropological Studies Center professional staff in consultation with representatives of the Round Valley Indian Tribes of the Round Valley Reservation, California.

In January 1982, human remains representing a minimum of one individual were removed from the Diamond H. Ranch Site #2 (CA-MEN-164), in Mendocino County, CA. The human remains were collected from a prehistoric feature exposed in a road cut bank during a surface survey for the Diamond H. Ranch Biomass Generating Plant. This collection, curated under the accession number 82-01, represents results of the survey of CA-MEN-164, near the town of Covelo, Mendocino County, CA. The collection has been housed at the Anthropological Studies Center since it was accessioned in 1982. No known individual was identified. No associated funerary objects are present.

Analysis of the artifacts found at site CA-MEN-164 indicates a probable occupation between A.D. 1500 and 1856. Although the exact age and identity of the individual is unknown, more likely than not, the human remains fall within the period indicated above and are Native American. Ethnographic documents indicate CA-MEN-164 was located within the territory of the Ukomno'm division of the Yuki. Ethnographic accounts and information provided by representatives of the Round Valley Indian Tribes of the Round Valley Reservation, California, demonstrate cultural affiliation with the human remains, as the Round Valley Indian Tribes are composed of descendants of the Yuki, Concow Maidu, Little Lake and other Pomo, Nomlaki, Cahto, Wailaki and Pit River peoples.

Officials of the Anthropological Studies Center, Archaeological Collections Facility, Sonoma State University, have determined, pursuant to 25 U.S.C. 3001(9), the human remains described above represent the physical remains of one individual of Native American ancestry. Lastly, officials of the Anthropological Studies Center, Archaeological Collections Facility, Sonoma State University, have determined, pursuant to 25 U.S.C. 3001(2), there is a relationship of shared group identity that can be reasonably traced between the Native American human remains and the Round Valley Indian Tribes of the Round Valley Reservation, California.

Representatives of any other Indian Tribe that believes itself to be culturally affiliated with the human remains should contact Erica Gibson, NAGPRA Project Coordinator, Anthropological Studies Center, Archaeological Collections Facility, Sonoma State University, Rohnert Park, CA 94928, telephone (707) 664-2015, before December 6, 2010. Repatriation of the human remains to the Round Valley Indian Tribes of the Round Valley Reservation, California, may proceed after that date if no additional claimants come forward.

The Anthropological Studies Center, Archaeological Collections Facility, Sonoma State University, is responsible for notifying the Round Valley Indian Tribes of the Round Valley Reservation, California, that this notice has been published.

Dated: October 29, 2010.
Sherry Hutt,
Manager, National NAGPRA Program.

[FR Doc. 2010-27919 Filed 11-3-10; 8:45 am]

BILLING CODE 4312-50-P